FEDERAL ENERGY REGULATORY COMMISSION

[Docket No. EC04-75-000, et al.]

Vineland Energy LLC, et al.; Electric Rate and Corporate Filings

March 17, 2004.

The following filings have been made with the Commission. The filings are listed in ascending order within each docket classification.

1. Vineland Energy LLC

[Docket Nos. EC04-75-000 and ER03-1283-004]

Take notice that on March 12, 2004, Vineland Energy LLC (Vineland) filed an application under section 203 of the Federal Power Act requesting Commission authorization for the transfer of a 50% indirect upstream membership interest in Vineland from Vineland Limited, Inc., an indirect wholly-owned subsidiary of Pepco Holdings, Inc., to Delta Power Company, LLC (Delta) or one or more wholly-owned subsidiaries of Delta and/or to certain individuals who may be employed or retained by Delta and not employed or otherwise affiliated with any franchised electric utility (Delta Designees). Vineland has requested confidential treatment of the contents of Exhibit B and Exhibit I to the section 203 application. In addition, Vineland filed a notice of change in status in the above-referenced rate docket.

Comment Date: April 2, 2004.

2. Fresno Cogeneration Partners, L.P.

[Docket No. ER00-2392-001]

Take notice that on March 12, 2004, Fresno Cogeneration Partners L.P. tendered for filing a triennial updated market power analysis and an amendment to its market-based rate tariff to adopt the Commission's new Market Behavior Rules issued on November 17, 2003, in Docket Nos. EL01-118-000 and 001.

Comment Date: April 2, 2004.

3. Duke Energy South Bay, LLC

[Docket No. ER03-117-003]

Take notice that on March 12, 2004, Duke Energy South Bay, LLC (Duke South Bay) submitted a refund report in response to the Commission's Order issued November 24, 2003, in Docket No. ER03-117-000.

Comment Date: April 2, 2004.

4. Entergy Services, Inc.

[Docket No. ER03-1272-002]

Take notice that on March 12, 2004, Entergy Services, Inc., on behalf of the Entergy Operating Companies, Entergy Arkansas, Inc., Entergy Gulf States, Inc., Entergy Louisiana, Inc., Entergy Mississippi, Inc., and Entergy New Orleans, Inc. submitted a compliance filing in response to the Commission's February 11, 2004, Order in Docket No. ER03-1272-000, 106 FERC ¶ 61,115 (2004).

Comment Date: April 2, 2004.

5. Black Hills Power, Inc., Basin Electric Power Cooperative, Powder River Energy Corporation

[Docket No. ER03-1354-003]

Take notice that on March 12, 2004, Black Hills Power, Inc., Basin Electric Power Cooperative, and Powder River Energy Corporation submitted a compliance filing pursuant to the Commission's Order issued February 12, 2004, in Docket No. ER03-1354-000, 106 FERC ¶ 61,119 (2004).

Comment Date: April 2, 2004.

6. Pacific Gas and Electric Company

[Docket No. ER03-1362-001]

Take notice that on March 12, 2004, Pacific Gas and Electric Company (PG&E) filed a refund report in compliance with the Commission's Order issued on November 13, 2003, in Docket No. ER03-1362-000.

PG&E states that copies of this filing have been served upon the parties of record in Docket Nos. ER03-1362-000 and ER04-377-000, CalPeak Power—Panoche, LLC, CalPeak Power—Midway, LLC, Sunrise Power Company, LLC, the California Independent System Operator Corporation, and the California Public Utilities Commission.

Comment Date: April 2, 2004.

7. New York Independent System Operator, Inc.

[Docket No. ER04-230-003]

Take notice that on March 12, 2004, the New York Independent System Operator, Inc. (NYISO) filed compliance tariff sheets, pursuant to the Commission's Order issued February 11, 2004, in Docket No. ER04-230-000, certain ministerial tariff corrections, and a notice that certain tariff provisions would become effective on May 1, 2004.

The NYISO states that it has served a copy of this filing to all parties on the official service list in this proceeding, including the New York State Public Service Commission, and to the electric utility regulatory agencies in New Jersey and Pennsylvania.

Comment Date: April 2, 2004.

8. First Electric Cooperative Corporation

[Docket No. ER04-524-000]

Take notice that on March 5, 2004, First Electric Cooperative Corporation tendered for filing a Notice of Withdrawal of its Notice of Cancellation of Rate Schedule No. 1, pursuant to rule 216 of the Commission's regulations, 18 CFR 385.216.

Comment Date: March 24, 2004.

9. Duke Energy Lee, LLC

[Docket No. ER04-641-000]

Take notice that on March 12, 2004, Duke Energy Lee, LLC (Duke Lee) tendered for filing its proposed tariff and supporting cost data for its Monthly Revenue Requirement under PJM Interconnection, LLC's (PJM) Schedule 2—Reactive Supply and Voltage Control from Generation Sources Service. Duke Lee requests an effective date of the date Commonwealth Edison Company (ComEd) joins PJM.

Duke Lee has served copies of the filing on the Illinois Commerce Commission, PJM and ComEd.

Comment Date: April 2, 2004.

10. Maine Public Service Company

[Docket No. ER04-642-000]

Take notice that on March 10, 2004, pursuant to the Settlement Agreement accepted by the Commission on April 13, 2001, in Docket No. ER01-1344-000, Maine Public Service Company (MPS), submitted an informational filing setting forth the changed loss factor effective March 1, 2004, together with back-up materials.

MPS states that copies of this filing were served on the parties to the Settlement Agreement in Docket No. ER01-1344-000, the Northern Maine Independent System Administrator, Inc., the Maine Public Utilities Commission, Commission Trial Staff, the Maine Public Advocate, and current MPS open access transmission tariff customers.

Comment Date: March 31, 2004.

11. Idaho Power Company

[Docket No. ER04-643-000]

Take notice that on March 12, 2004, Idaho Power Company (Idaho Power) submitted for filing First Revised Service Agreement No. 174 under its Open Access Transmission Tariff providing for 75 MW of long-term from transmission service to the Idaho Power Merchant Group.

Comment Date: April 2, 2004.

12. Duke Energy Lee, LLC

[Docket No. ER04-644-000]

Take notice that on March 12, 2004, Duke Energy Lee, LLC (Duke Lee) filed revisions to its FERC Electric Tariff, Original Volume No. 1 (Tariff), specifically (1) enumerating ancillary service products sold into the ancillary service markets operated by PJM Interconnection, L.L.C., (2) providing for the resale of firm transmission rights and other similar congestion-related contracts, and (3) reflecting the Commission's current language preferences with respect to (a) use of an Internet site with respect to the provision of certain ancillary services and (b) obtaining Commission approval for certain affiliate transactions. Duke Lee requested an effective date of March 13, 2004.

Comment Date: April 2, 2004.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-660 Filed 3-24-04; 8:45 am]

BILLING CODE 6717-01-P